DEPARTMENT OF THE INTERIOR

National Indian Gaming Commission

25 CFR Part 571

RIN 3141-AA68

Audit Standards

AGENCY: National Indian Gaming Commission.

ACTION: Final rule; correction.

SUMMARY: The National Indian Gaming Commission inadvertently referred to an incorrect RIN in a recent final rule published in the Federal Register concerning audit standards. Throughout the rulemaking process, we referenced the wrong RIN. This document corrects that error in the final rule.

DATES: This correction is effective November 8, 2022, and is applicable beginning October 21, 2022.

FOR FURTHER INFORMATION CONTACT: Michael Hoenig, 202-632-7003.

SUPPLEMENTARY INFORMATION: The rulemaking process culminating in the final rule on audit standards used an incorrect RIN. The RIN used (RIN 3141-AA72) is assigned to Self Regulation of Class II Gaming Activities. The correct reference for the audit standards regulations is RIN 3141-AA68.

Correction

In final rule FR Doc. 2022-20230, beginning on page 57595 in the issue of September 21, 2022, make the following correction. On page 57595, correct the RIN in the document heading to read “RIN 3141-AA68”.

Dated: November 2, 2022.
Michael Hoenig,
General Counsel.

[FR Doc. 2022-24304 Filed 11-7-22; 8:45 am]

BILLING CODE 7565-01-P